INTERNATIONAL TRADE COMMISSION

[Investigation Nos. 701-TA-476 and 731-TA-1179 (Review)]

Multilayered Wood Flooring From China; Determinations

On the basis of the record ¹ developed in the subject five-year reviews, the United States International Trade Commission (“Commission”) determines, pursuant to the Tariff Act of 1930 (“the Act”), that revocation of the antidumping and countervailing duty orders on multilayered wood flooring from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on November 1, 2016 (81 FR 75854) and determined on February 6, 2017 that it would conduct full reviews (82 FR 10588, February 14, 2017). Notice of the scheduling of the Commission's reviews and of a public hearing to be held in connection therewith was given by posting copies of the notice in the Office of the Secretary, U.S. International Trade Commission, Washington, DC, and by publishing the notice in the Federal Register on June 16, 2017 (82 FR 27722). The hearing was held in Washington, DC, on October 12, 2017, and all persons who requested the opportunity were permitted to appear in person or by counsel.

The Commission made these determinations pursuant to section 751(c) of the Act (19 U.S.C. 1675(c)). It completed and filed its determinations in these reviews on December 13, 2017. The views of the Commission are contained in USITC Publication 4746 (December 2017), entitled Multilayered Wood Flooring from China: Investigation Nos. 701-TA-476 and 731-TA-1179 (Review).

By order of the Commission.
Issued: December 13, 2017.
Lisa R. Barton,
Secretary to the Commission.

[FR Doc. 2017-27242 Filed 12-18-17; 8:45 am]

BILLING CODE 7020-02-P